DEPARTMENT OF COMMERCE

National Oceanic and Atmospheric Administration

[RTID 0648-XD836]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a one-day meeting of its Reef Fish Advisory Panel (AP).

DATES: The meeting will be held Tuesday, April 23, 2024, from 8:30 a.m. to 5 p.m., EDT.

ADDRESSES: The in-person meeting will take place at the Gulf Council office.

Council address: Gulf of Mexico Fishery Management Council, 4107 W Spruce Street, Suite 200, Tampa, FL 33607; telephone: (813) 348-1630.

FOR FURTHER INFORMATION CONTACT: Mr. Ryan Rindone, Lead Fishery Biologist, Gulf of Mexico Fishery Management Council; ryan.rindone@gulfcouncil.org, telephone: (813) 348-1630.

SUPPLEMENTARY INFORMATION:

Tuesday

April 23, 2024; 8:30 a.m.-5 p.m., EDT

The meeting will begin with Introductions of Members and Adoption of Agenda, Approval of Minutes from the October 2023 meeting, review the Scope of Work, and Reef Fish and Individual Fishing Quota (IFQ) Program Landings.

The AP will review SEDAR 74: Research Track Review of Gulf of Mexico Red Snapper and SEDAR 85: Gulf of Mexico Yellowedge Grouper, along with background materials, presentations and SSC and AP recommendations. The AP will discuss the 2023 Recreational Red Grouper and Gag Grouper Landings, Reef Fish Amendment 61: Modifications to the Mid-water Snapper Complex and Catch Limits, and Ad Hoc Charter for-Hire Data Collection Advisory Panel's January 2024 meeting summary, with presentations and AP recommendations.

Next, the AP will review Reef Fish Amendment 59/60: Modifications to the Individual Fishing Quota Programs in the Gulf of Mexico, including presentations, background materials and AP recommendations; the AP will then receive Public Comment.

Lastly, the AP will discuss any Other Business items.

—Meeting Adjourns

The meeting will be also be broadcast via webinar. You may register for the webinar by visiting www.gulfcouncil.org and clicking on the Advisory Panel meeting on the calendar. The Agenda is subject to change, and the latest version along with other meeting materials will be posted on www.gulfcouncil.org as they become available.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take-action to address the emergency.

Special Accommodations

The meeting is physically accessible to people with disabilities. Requests for sign language interpretation or other auxiliary aid should be directed to Kathy Pereira, (813) 348-1630, at least 5 days prior to the meeting date.

Authority: 16 U.S.C. 1801 et seq.

Dated: March 28, 2024.
Rey Israel Marquez,
Acting Deputy Director, Office of Sustainable Fisheries, National Marine Fisheries Service.

[FR Doc. 2024-06943 Filed 4-1-24; 8:45 am]

BILLING CODE 3510-22-P